FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011931-010.

Agreement Name: CMA CGM/Marfret Vessel Sharing Agreement for PAD Service.

Parties: CMA CGM S.A. and Compagnie Maritime Marfret.

Filing Party: Draughn Arbona; CMA CGM (America) LLC.

Synopsis: The amendment provides authority for the Parties to make seasonable adjustments to capacity, with the service operating on a weekly scheduled during the peak season and fortnightly during the slack season. The amendment further serves to remove language regarding joint procurement authority, which has not been utilized by the Parties, while clarifying that the Parties are authorized to discuss and agree upon certain practical matters related to terminals and terminal-related services.

Proposed Effective Date: 8/19/2019.

Location: https://www2.fmc.gov/FMC.Agreements.Web/Public/AgreementHistory/512.

Dated: July 11, 2019.
Rachel E. Dickon,
Secretary.

[FR Doc. 2019-15183 Filed 7-16-19; 8:45 am]

BILLING CODE 6731-AA-P